DEPARTMENT OF ENERGY

Federal Energy Regulatory Commission

Notice of Attendance at PJM Interconnection, L.L.C. Meetings

The Federal Energy Regulatory Commission (Commission) hereby gives notice that members of the Commission and Commission staff may attend upcoming PJM Interconnection, L.L.C. (PJM) Members Committee and Markets and Reliability Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM website.

PJM Members Committee

• May 4, 2020 (Conference Call)

• May 28, 2020 (Audubon, PA)

• June 18, 2020 (Audubon, PA)

• July 23, 2020 (Audubon, PA)

• September 17, 2020 (Audubon, PA)

• October 29, 2020 (Audubon, PA)

• November 19, 2020 (Audubon, PA)

• December 17, 2020 (Audubon, PA)

PJM Markets and Reliability Committee

• April 30, 2020 (Conference Call)

• May 28, 2020 (Audubon, PA)

• June 18, 2020 (Audubon, PA)

• July 23, 2020 (Audubon, PA)

• August 20, 2020 (Audubon, PA)

• September 17, 2020 (Audubon, PA)

• October 29, 2020 (Audubon, PA)

• November 19, 2020 (Audubon, PA)

• December 17, 2020 (Audubon, PA)

PJM Market Implementation Committee

• April 15, 2020 (Conference Call)

• May 13, 2020 (Audubon, PA)

• June 3, 2020 (Audubon, PA)

• July 8, 2020 (Audubon, PA)

• August 5, 2020 (Audubon, PA)

• September 2, 2020 (Audubon, PA)

• October 7, 2020 (Audubon, PA)

• November 5, 2020 (Audubon, PA)

• December 2, 2020 (Audubon, PA)

The discussions at each of the meetings described above may address matters at issue in pending proceedings before the Commission, including the following currently pending proceedings:

Docket No. ER12-2708, Potomac-Appalachian Transmission Highline, LLC. et. al.

Docket No. EL14-37, PJM Interconnection, L.L.C.

Docket No. ER14-972, PJM Interconnection, L.L.C.

Docket Nos. EL14-48, ER18-988, PJM Interconnection, L.L.C.

Docket No. EL15-18, Consolidated Edison Company of New York, Inc. v. PJM Interconnection, L.L.C.

Docket No. EL15-67, Linden VFT, LLC v. PJM Interconnection, L.L.C.

Docket No. EL15-95, Maryland and Delaware State Commissions v. PJM Interconnection, L.L.C.

Docket No. ER15-1387, PJM Interconnection, L.L.C

Docket Nos. ER15-2562, ER15-2563, PJM Interconnection, L.L.C.

Docket No. EL16-49, Calpine Corporation, et. al., v. PJM Interconnection, L.L.C.

Docket No. EL17-31, Northern Illinois Municipal Power Agency v. PJM Interconnection, L.L.C.

Docket No. EL17-37, American Municipal Power, Inc. v. PJM Interconnection, L.L.C.

Docket No. EL17-62, Potomac Economics, Ltd. v. PJM Interconnection, L.L.C.

Docket No. EL17-64, Energy Storage Association v. PJM Interconnection, L.L.C.

Docket No. EL17-65, Renewable Energy Systems America v. PJM Interconnection, L.L.C.

Docket No. EL17-68, Linden VFT, LLC v. PJM Interconnection, L.L.C.

Docket No. ER17-725, PJM Interconnection, L.L.C.

Docket No. ER17-950, PJM Interconnection, L.L.C.

Docket No. ER17-1138, PJM Interconnection, L.L.C.

Docket No. ER17-1420, PJM Interconnection, L.L.C.

Docket No. ER17-1433, PJM Interconnection, L.L.C.

Docket No. EL18-7, American Electric Power Service Corporation v. Midcontinent Independent System Operator, Inc.

Docket No. EL18-26, EDF Renewable Energy, Inc. v. Midcontinent Independent System Operator, Inc., Southwest Power Pool, Inc. and PJM Interconnection, L.L.C.

Docket No. EL18-34, PJM Interconnection, L.L.C.

Docket No. EL18-54, New Jersey Board of Public Utilities v. PJM Interconnection, L.L.C., New York Independent System Operator, Inc., Consolidated Edison Company of New York, Inc., Linden VFT, LLC, Hudson Transmission Partners, LLC and New York Power Authority

Docket No. EL18-61, Public Citizen, Inc. v. PJM Interconnection, L.L.C.

Docket No. EL18-145, Tilton Energy L.L.C. v PJM Interconnection, L.L.C.

Docket No. EL18-178, PJM Interconnection, L.L.C.

Docket No. EL18-170, DC Energy, LLC v. PJM Interconnection, L.L.C.

Docket No. EL18-183, Radford's Run Wind Farm, L.L.C. v. PJM Interconnection, L.L.C.

Docket No. ER18-87, PJM Interconnection, L.L.C.

Docket No. ER18-579, PJM Interconnection, L.L.C.

Docket No. ER18-680, PJM Interconnection, L.L.C.

Docket No. ER18-1314, PJM Interconnection, L.L.C.

Docket No. ER18-2102, PJM Interconnection, L.L.C.

Docket No. EL19-34, Brookfield Energy Marketing LP v. PJM Interconnection, L.L.C.

Docket No. EL19-47, Independent Market Monitor for PJM Interconnection, L.L.C. v. PJM Interconnection, L.L.C.

Docket No. EL19-51, Cube Yadkin Generation, L.L.C. v. PJM Interconnection, L.L.C.

Docket No. EL19-58, ER19-1486, PJM Interconnection, L.L.C.

Docket No. EL19-63, Joint Consumer Advocates v. PJM Interconnection, L.L.C.

Docket Nos. EL19-90, EL19-91, EL19-92, ISO New England Inc., PJM Interconnection, L.L.C., Southwest Power Pool, Inc., Order Instituting Section 206 Proceedings

Docket No. ER19-100, PJM Interconnection, L.L.C.

Docket No. ER19-105, PJM Interconnection, L.L.C.

Docket No. ER19-469, PJM Interconnection, L.L.C.

Docket No. ER19-1958, PJM Interconnection, L.L.C.

Docket No. ER19-2722, PJM Interconnection, L.L.C.

Docket No. ER19-2915, PJM Interconnection, L.L.C.

Docket No. EL20-10, Anabric Development Partners, LLC v. PJM Interconnection, L.L.C.

Docket No. ER20-457, PJM Interconnection, L.L.C.

Docket No. ER20-584, PJM Interconnection, L.L.C.

Docket No. ER20-939, PJM Interconnection, L.L.C.

Docket No. ER20-955, PJM Interconnection, L.L.C.

Docket No. ER20-1258, PJM Interconnection, L.L.C.

Docket No. ER20-1392, PJM Interconnection, L.L.C.

Docket No. ER20-1414, PJM Interconnection, L.L.C.

Docket No. ER20-1416, PJM Interconnection, L.L.C.

Docket No. ER20-1451, PJM Interconnection, L.L.C.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: April 15, 2020.
Kimberly D. Bose,
Secretary.

[FR Doc. 2020-08444 Filed 4-21-20; 8:45 am]

BILLING CODE 6717-01-P